DEPARTMENT OF STATE

22 CFR Part 121

[Public Notice 6695]

Amendment to the International Arms Traffic in Arms Regulations: The United States Munitions List; Correction

AGENCY: Department of State.

ACTION: Correcting amendment.

SUMMARY: The Department of State published a final rule in the Federal Register on September 9, 1994 (59 FR 46548), revising Category XII(c) of the United States Munitions List. The language in the note after paragraph (c) contains a typographical error by using the term “hold” instead of “hole.” A technical error in that rule resulted in the unintended removal of the note after Category XII paragraph (c). Consequently, a correction was published on April 24, 2009 (74 FR 18628) to restore the language in the note after Category XII paragraph (c). That correction used the term “hold” when the correct term is “hole.” This document corrects the typographical error dating from September 9, 1994 to utilize the correct term “hole.”

DATES: Effective Date: Effective on July 20, 2009.

FOR FURTHER INFORMATION CONTACT: Director Charles B. Shotwell, Office of Defense Trade Controls Policy, Department of State, Telephone (202) 663-2792 or Fax (202) 261-8199; e-mail DDTCResponseTeam@state.gov. Attn: Regulatory Change, Category XII.

SUPPLEMENTARY INFORMATION: The Department of State published a final rule (Public Notice 4723) in the Federal Register of May 21, 2004, amending Category XII of the United States Munitions List. This document restores the language in the note after Category XII(c).

List of Subjects in 22 CFR Part 121

Arms and munitions, Exports, U.S. Munitions List.

Accordingly, 22 CFR part 121 is corrected by making the following correcting amendment:

PART 121—THE UNITED STATES MUNITIONS LIST

1. The authority citation for part 121 continues to read as follows:

Authority: Secs. 2, 38, and 71, Pub. L. 90-629, 90 Stat. 744 (22 U.S.C. 2752, 2778, 2797); E.O. 11958, 42 FR 4311; 3 CFR, 1977 Comp. p.79; 22 U.S.C. 2651a; Pub. L. 105-261, 112 Stat. 1920.

2. In § 121.1(c), Category XII, revise the introductory text of the note after paragraph (c) to read as follows:

§ 121.1 General. The United States Munitions List.

* * * * *

(c) * * *

* * * * *

Category XII—Fire Control, Range Finder, Optical and Guidance and Control Equipment

(c) * * *

Note: Special Definition. For purposes of this subparagraph, second and third generation image intensification tubes are defined as having: A peak response within the 0.4 to 1.05 micron wavelength range and incorporating a microchannel plate for electron image amplification having a hole pitch (center-to-center spacing) of less than 25 microns and having either:

* * * * *

Dated: July 6, 2009.
Ellen O. Tauscher,
Under Secretary, Arms Control and International Security, Department of State.

[FR Doc. E9-16798 Filed 7-17-09; 8:45 am]

BILLING CODE 4710-25-P